GENERAL SERVICES ADMINISTRATION

[OMB Control No. 3090-0293; Docket No. 2024-0001; Sequence No. 5]

Submission for OMB Review; Reporting and Use of Information Concerning Integrity and Performance of Recipients of Grants and Cooperative Agreements

AGENCY: Office of Technology Strategy/Office of Government-wide Policy, General Services Administration (GSA).

ACTION: Notice and request for comments.

SUMMARY: Under the provisions of the Paperwork Reduction Act, the Regulatory Secretariat Division (MVCB) will be submitting to the Office of Management and Budget (OMB) a request to review and approve a revision and renewal of the currently approved information collection requirement on the reporting and use of information concerning integrity and performance of recipients of grants and cooperative agreements.

DATES: Submit comments on or before July 18, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Salomeh Ghorbani, Director, IAE Outreach and Stakeholder Engagement Division, at 703-605-3467 or IAE_Admin@gsa.gov.

SUPPLEMENTARY INFORMATION:

A. Purpose

This information collection requirement, OMB Control No. 3090-0293, currently titled “Reporting and Use of Information Concerning Integrity and Performance of Recipients of Grants and Cooperative Agreements” is necessary in order to comply with section 872 of the Duncan Hunter National Defense Authorization Act of 2009, Public Law 110-417, as amended by Public Law 111-212, hereafter referred to as “the Act.” The Duncan Hunter National Defense Authorization Act of 2009 (Pub. L. 110-417) was enacted on October 14, 2008. Section 872 of this Act required the development and maintenance of an information system that contains specific information on the integrity and performance of covered Federal agency contractors and grantees.

The Federal Awardee Performance and Integrity Information System (FAPIIS) was developed to address these requirements and has been superseded by the System for Award Management (SAM) at SAM.gov. SAM provides users access to integrity information from the FAPIIS reporting module in the Contractor Performance Assessment Reporting System (CPARS), proceedings information from the Entity Management section of the SAM database, and suspension/debarment information from the Exclusions section of SAM.

As required by 2 CFR part 200 Uniform Administrative Requirements, Cost Principles, and Audit Requirements for Federal Awards, effective January 1, 2016, Federal agencies are required to review and consider any information about the applicant that is in SAM before making any award in excess of the simplified acquisition threshold, defined in 41 U.S.C. 134, over the period of performance.

Non-Federal entities (NFEs) are required to disclose any information about criminal, civil, and administrative proceedings, and/or affirm that there is no new information to provide. This applies to NFEs that receive Federal awards (currently active grants, cooperative agreements, and procurement contracts), as required by 45 CFR part 75, Appendix XII, of the Uniform Guidance, for any period of time during the period of performance of an award/project.

B. Annual Reporting Burden

Proceedings Screening Question #1

Respondents: 19,152.

Responses per Respondent: 1.

Total Annual Responses: 19,152.

Hours per Response: .1.

Total Response Burden Hours: 1,915.

Proceedings Screening Question #2

Respondents: 141.

Responded per Respondent: 1.

Total Annual Responses: 141.

Hours per Response: .1.

Total Response Burden Hours: 14.

Proceedings Details

Respondents: 141.

Responses per Respondent: 2.

Total Annual Responses: 282.

Hours per Response: .5.

Total Response Burden Hours: 141.

C. Public Comments

A 60-day notice was published in the Federal Register at 89 FR 25874 on April 12, 2024. No comments were received.

Obtaining Copies: Requesters may obtain a copy of the information collection documents from the GSA Regulatory Secretariat Division by calling 202-501-4755 or emailing GSARegSec@gsa.gov. Please cite OMB Control No. OMB Control No. 3090-0293, Reporting and Use of Information Concerning Integrity and Performance of Recipients of Grants and Cooperative Agreements, in all correspondence.

Lois Mandell,
Director, Regulatory Secretariat Division, General Services Administration.

[FR Doc. 2024-13364 Filed 6-17-24; 8:45 am]

BILLING CODE 6820-WY-P